DEPARTMENT OF COMMERCE

National Telecommunications and Information Administration

Agency Information Collection Activities; Submission for OMB Review; Comment Request; Public Wireless Supply Chain Innovation Fund Grant Program Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 4, 2023 during a 60-day comment period. This notice allows for an additional 30 days for public comments.

Agency: National Telecommunications and Information Administration (NTIA), Commerce.

Title: Public Wireless Supply Chain Innovation Fund Grant Program Forms.

OMB Control Number: 0660-0053.

Form Number(s): None.

Type of Request: Revision of a current information collection.

Number of Respondents: 18 hours for Baseline and Performance Progress Reports; 100 hours for Budget Submission Form.

Average Hours Per Response: 33.22.

Burden Hours: 1,856 hours.

Needs and Uses: With this information collection, NTIA will be able to monitor the grant recipients' spending habits and activities. In the absence of collecting this information, NTIA would fail to evaluate the grant recipients' progress toward the grant program priority areas and program goals. Moreover, without these reports, the grants could be the subject of waste, fraud, and abuse of Federal funds. Therefore, it is necessary for NTIA to collect information using the Performance Progress Report (PPR) form and Baseline Report.

For the budget submission form, NTIA intends to use the information collected (1) to evaluate whether an applicant is eligible for a grant; (2) to evaluate applications by peer/expert reviewers against objective criteria; and (3) to collect corroborative information, as applicable, from applicants deemed highly qualified. NTIA also intends to use information collected from the application as baseline information after award of the grant to evaluate the grantee's progress toward completion of the objectives for which the grant was made.

Affected Public: Grant award recipients consisting of for-profit companies, non-profit companies, institutions of higher education, industry groups, and consortia including two or more such entities.

Frequency: One-time (Baseline and Budget Submission Forms) and bi-annual (Performance Progress Report).

Respondent's Obligation: Mandatory.

Legal Authority: Section 9202(a)(1) of the William M. (Mac) Thornberry National Defense Authorization Act for Fiscal Year 2021, Pub. L. 116-283, 134 Stat. 3388 (Jan. 1, 2021).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0660-0053.

Sheleen Dumas,
Department PRA Clearance Officer, Office of the Under Secretary of Economic Affairs, Commerce Department.

[FR Doc. 2023-28581 Filed 12-26-23; 8:45 am]

BILLING CODE 3510-60-P